DEPARTMENT OF AGRICULTURE

Intent To Establish an Equity Commission and Solicitation of Nominations for Membership on the Equity Commission Advisory Committee and Equity Commission Subcommittee on Agriculture

AGENCY: United States Department of Agriculture (USDA).

ACTION: Notice.

SUMMARY: In accordance with the Federal Advisory Committee Act (FACA), the United States Department of Agriculture announces its intent to establish an Equity Commission (EC) including a Subcommittee on Agriculture. The EC will advise the Secretary of Agriculture by facilitating identification of critical USDA programs, policies, systems, structures, and practices that contribute to barriers to inclusion or access, systemic discrimination, or exacerbate or perpetuate racial, economic, health and social disparities. The EC will be governed by the provisions of FACA. Concurrent to creation of the Equity Commission, a Subcommittee on Agriculture will be formed that will be charged with providing recommendations on issues of concern related to agriculture to optimize USDA programs, dismantle structural inequities and systemic discrimination, and promote social justice particularly for historically underserved and diverse communities served by USDA. This notice also solicits nominations for membership on the EC and the EC's Subcommittee on Agriculture.

DATES: We will consider nominations that are submitted via email or postmarked by October 27, 2021.

ADDRESSES: Please submit nominations to Dr. Dewayne L. Goldmon, USDA Senior Advisor for Racial Equity, Office of the Secretary, Department of Agriculture, 1400 Independence Avenue SW, Room 6006-S, Washington, DC 20250; or send by email to: EquityCommission@usda.gov. A Federal Official of USDA will acknowledge receipt of nominations.

FOR FURTHER INFORMATION CONTACT: Dewayne L. Goldmon, Ph.D.; telephone: (202) 997-2100; email: dewayne.goldmon@usda.gov.

SUPPLEMENTARY INFORMATION: Section 1006(a)(3) of the American Rescue Plan Act of 2021 directs the Secretary of the United States Department of Agriculture to create an Equity Commission to advise the Agency in “address[ing] historical discrimination and disparities in the agriculture sector,” which includes “fund[ing] one or more equity commissions to address racial equity issues within USDA and its programs.” Public Law 117-2.

EC and Subcommittee on Agriculture Scope and Purpose

The purpose of the EC is to advise the Secretary of Agriculture by identifying USDA programs, policies, systems, structures, and practices that contribute to barriers to inclusion or access, systemic discrimination, or exacerbate or perpetuate racial, economic, health and social disparities.

The scope of duties of the EC is advisory and extends only to the submission of advice and recommendations to the Secretary, which shall be non-binding. The EC will make no determination of fact or policy.

The EC will deliver an interim report focused on characterizing the problems and barriers to accessing USDA programs and services and provide actionable recommendations on reducing these barriers that underserved individuals, organizations, businesses, or communities may face accessing the information, resources, programs, and services USDA offers, no later than 12 months after inception. A final report on the same topic shall be generated within a two-year timeframe.

The EC is expected to begin meeting during the Winter of 2021/2022 and to meet up to four times per year (either virtually or in person, or as deemed necessary by the Secretary of Agriculture). Pursuant to FACA, all EC meetings will be open to the public.

The Subcommittee on Agriculture will be formed concurrently and be focused on providing recommendations on issues of concern related to agriculture. The subcommittee will meet as deemed necessary by the subcommittee chairperson and may meet through teleconference or by computer-based conferencing. The EC and subcommittee may invite subject matter experts to present information for consideration. The subcommittee meetings will not be announced in the Federal Register. All data and records available to the full EC are expected to be available to the public when the full EC reviews and approves the work of the subcommittee.

EC and Subcommittee on Agriculture Overview and Membership

The criteria for consideration for membership on the EC and Subcommittee on Agriculture include diversity in demographics, regions of the country, background, and in experience and expertise. The EC must adhere to equal opportunity practices consistent with USDA policy. The EC and subcommittee will require substantial representation from those whose mission is to serve or advocate for underserved communities, minorities, women, individuals with disabilities, individuals with limited English proficiency, rural communities, and LGBTQI+ communities. Other perspectives to capture include those from the small business community, higher education institutions, farmworker groups, and members of the American population and communities who bring their personal experiences to the discussion.

The EC shall be composed of 15 members appointed by the Secretary of Agriculture for a two-year term and may be reappointed for up to two additional terms, and shall include:

• 2 representatives from community-based organizations that represent underserved communities;

• 2 representatives with expertise in policy design and/or evaluation;

• 2 representatives with expertise in organizational development, design thinking, and/or change management;

• 1 representative with expertise in communications/public relations;

• 1 representative with expertise in civil rights;

• 1 representative with expertise in organizational diversity, equity, and inclusion;

• 1 economist with knowledge of social policy and economic disparities;

• 1 historian;

• 1 legal expert; and

• 3 such other persons representing a broad spectrum of related interests as the Secretary considers appropriate.

The Secretary and Deputy Secretary will designate a Co-Chair to serve along with the Deputy Secretary, serving one (1) year from the date of appointment to the Equity Commission; their role as Co-Chair may be renewed. The Co-Chair will be an individual who is recognized for their ability to lead in a fair and focused manner.

The EC members will be reimbursed for travel expenses, including per diem instead of subsistence, authorized by 5 U.S.C. 5703, in the same manner as a person employed intermittently in the Government service.

The EC's Subcommittee on Agriculture will be comprised of 15 members who have expertise in agriculture, federal farm, conservation, and extension programs. Two members of the Subcommittee on Agriculture will be members of the EC. The majority of the subcommittee members should be familiar with USDA and reflect the diversity of agriculture in geography, size, scale, and type of production. The majority of subcommittee members should represent historically underserved populations or communities and shall include:

• 3 farmers or ranchers;

• 2 university personnel with research and/or extension expertise from minority serving institutions;

• 2 individuals from community based organizations;

• 1 individual from the agricultural industry;

• 1 individual representing farmworker groups;

• 1 individual with civil rights and equity expertise;

• 3 individuals selected at the discretion of the Secretary; and

• 2 members of the EC (as explained above).

The Subcommittee on Agriculture will report back to the parent committee (EC), and must not provide advice or work products directly to the agency.

Member Nominations

Any interested person or organization may nominate qualified individuals for membership. Interested candidates may nominate themselves. Individuals who wish to be considered for membership on the EC and/or the Subcommittee on Agriculture must submit a nomination with information, including a background disclosure form (Form AD-755). Nominations should be typed and include the following:

1. A brief summary, no more than two pages, explaining the nominee's qualifications to serve on the EC or subcommittee and addressing the membership composition and criteria described above.

2. A resume providing the nominee's background, experience, and educational qualifications.

3. A completed background disclosure form (Form AD-755) signed by the nominee https://www.ocio.usda.gov/sites/default/files/docs/2012/AD-755-Approved_Master-exp-3.31.22_508.pdf.

4. Any recent publications by the nominee relative to organizational change management, diversity equity and inclusion, reducing barriers to accessing public programs and services, addressing historical discrimination and disparities or other related works that would make evident why an individual's experience, expertise and perspective would add value to the Equity Commission or Agriculture Subcommittee (if appropriate).

5. Letters of endorsement (optional).

Nomination for the EC and subcommittee membership is open to the public, including minorities, LGBTQI+ individuals, women, and persons with disabilities in areas designated within the United States, Caribbean Area (Puerto Rico and the U.S. Virgin Islands), and the Pacific Basin Area (Guam, American Samoa, and the Commonwealth of the Northern Marianna Islands).

All candidates should have a shared commitment to ensuring USDA is a diverse, equitable, inclusive, accessible organization that upholds its commitment to civil rights and effectively advances racial justice and equity. Please send typed nominations to:

Office of the Secretary, Attn: Dewayne L. Goldmon, Ph.D., 1400 Independence Avenue SW, Room 6006-S, Washington, DC 20250; telephone: (202) 997-2100, email: EquityCommission@usda.gov

A Federal Official of USDA will acknowledge receipt of nominations.

Ethics Statement

To maintain the highest levels of honesty, integrity and ethical conduct, no Committee or subcommittee member shall participate in any “specific party matters” (i.e., matters are narrowly focused and typically involve specific transactions between identified parties) such as a lease, license, permit, contract, claim, grant, agreement, or related litigation with the Department in which the member has a direct financial interest. This includes the requirement for Committee or Subcommittee members to immediately disclose to the DFO (for discussion with USDA's Office of Ethics) any specific party matter in which the member's immediate family, relatives, business partners or employer would be directly seeking to financially benefit from the Committee's recommendations.

All members will receive ethics training to identify and avoid any actions that would cause the public to question the integrity of the Committee's advice and recommendations. Members who are appointed as “Representatives” are not subject to Federal ethics laws because such appointment allows them to represent the point(s) of view of a particular group, business sector or segment of the public.

Members appointed as “Special Government Employees” (SGEs) are considered intermittent Federal employees and are subject to Federal ethics laws. SGE's are appointed due to their personal knowledge, academic scholarship, background or expertise. No SGE may participate in any activity in which the member has a prohibited financial interest. Appointees who are SGEs are required to complete and submit a Confidential Financial Disclosure Report (OGE-450 form) via the FDonline e-filing database system. Upon request USDA will assist SGEs in preparing these financial reports. To ensure the highest level of compliance with applicable ethical standards USDA will provide ethics training to SGEs on an annual basis. The provisions of these paragraphs are not meant to exhaustively cover all Federal ethics laws and do not affect any other statutory or regulatory obligations to which advisory committee members are subject.

Equal Opportunity Statement

To ensure that recommendations of the EC take into account the needs of underserved and diverse communities served by the USDA, membership will include, to the extent practicable, individuals representing minorities, women, and persons with disabilities. USDA prohibits discrimination in all of its programs and activities based on race, sex, color, national origin, gender, religion, age, sexual orientation, or disability. Additionally, discrimination based on political beliefs and marital status or family status is also prohibited by statutes enforced by USDA (not all prohibited bases apply to all programs). Persons with disabilities who require alternative means for communication of program information (Braille, large print, audiotape, etc.) should contact USDA's Technology and Accessible Resources Give Employment Today Center at (202) 720-2600 (voice and TDD). USDA is an equal opportunity provider and employer.

Dated: September 21, 2021.
Cikena Reid,
Committee Management Officer, USDA.

[FR Doc. 2021-20840 Filed 9-24-21; 8:45 am]

BILLING CODE 3410-01-P